DEPARTMENT OF ENERGY

Federal Energy Regulatory Commission

[Project No. 2221-041]

Empire District Electric Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2221-041.

c. Date filed: February 28, 2020 and amended on August 28, 2020.

d. Applicant: Empire District Electric Company (Empire District).

e. Name of Project: Ozark Beach Hydroelectric Project (Ozark Beach Project).

f. Location: On the White River near the Town of Forsyth, in Taney County, Missouri. The project occupies 5.1 acres of United States lands administered by the U.S. Army Corps of Engineers (Corps).

g. Filed Pursuant to: Federal Power Act 16 U.S.C. 791(a)-825(r).

h. Applicant Contact: Randy Richardson, Plant Manager, Empire District Electric Company, 2537 Fir Road, Sarcoxie, MO 64862, (417) 625-6138 or RRichardson@empiredistrict.com.

i. FERC Contact: Colleen Corballis at colleen.corballis@ferc.gov or (202) 502-8598.

j. Deadline for filing comments, recommendations, terms and conditions, and prescriptions: 60 days from the issuance date of this notice; reply comments are due 105 days from the issuance date of this notice.

The Commission strongly encourages electronic filing. Please file motions to intervene, protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper request.

Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Ozark Beach Hydroelectric Project (P-2221-041).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

The Ozark Beach Project consists of the following existing facilities: (1) a 2,312-acre reservoir (Lake Taneycomo) with a gross storage capacity of 24,640 acre-feet and a usable storage capacity of 2,840 acre-feet at a water surface elevation of 701.35 feet National Geodetic Vertical Datum of 1929 (NGVD29); (2) a 1,301-foot-long dam consisting of, from west to east: (a) a 420-foot-long earth fill embankment with a concrete core wall, (b) an 18-foot-long concrete overflow spillway topped with a sharp-crested steel weir having a compound section, (c) a 575-foot-long, 57-foot-high, concrete overflow spillway topped with 32 4-foot-high Obermeyer gates, (d) an 18-foot-long concrete non-overflow section, (e) an integral 220-foot-long reinforced concrete powerhouse, and (f) a 50-foot-long concrete non-overflow section; (3) a 220-foot-long, 88-foot-wide, 92-foot-high reinforced concrete integral powerhouse with an operating head of 48 feet; (4) trash racks at the entrance to the intakes; (5) two 7,500 horsepower (5.625 megawatt (MW)) and two 7,200 horsepower (5.400 MW) vertical-shaft Francis-type turbines with a total capacity of 29,400 horsepower (22.050 MW), each coupled to a 4.0 MW generator with a total nameplate rating of 16.0 MW; (6) a 445-foot-long, 4,600-volt overhead transmission line connected to a three-phase, 4,600 to 161,000 volt step-up transformer with a rating of 22,400-kilovolt ampere that connects to Empire District's 161,000-volt transmission system; and (7) appurtenant facilities.

The Ozark Beach Project is situated between two multipurpose projects owned by the Corps. The Corps' Table Rock Project, which is located approximately 22 miles upstream of the Ozark Beach Project, is operated in a peaking mode based on regional electrical demand requirements. The Ozark Beach Project discharges directly into the Corps' Bull Shoals Project reservoir, which is located immediately downstream. Using the storage in Lake Taneycomo, the Ozark Beach Project is currently operated based on various conditions including closely matching the releases of the Corps' upstream Table Rock Project, market pricing, Lake Taneycomo water level, the water level of the Corps' downstream Bull Shoals Project, and rainfall. The project currently operates to maintain water surface elevations between 701.35 and 700.00 feet NGVD29 in Lake Taneycomo. The Ozark Beach Project currently has an estimated annual energy production of about 50,768 megawatt-hours (MWh).

In its amended application, Empire District proposes to replace the existing 4-foot-high Obermeyer gates with new 5.15-foot-high Obermeyer gates. As proposed, the water surface elevation of Lake Taneycomo would be raised from 701.35 to 702.5 feet NGVD29 when the 5.15-foot gates are fully raised. At a water surface elevation of 702.5 feet NGVD29, Lake Taneycomo would increase from 2,312 to 2,398 acres, its gross storage capacity would increase from 24,640 to 25,790 acre-feet, and its usable storage capacity would increase from 2,840 to 3,990 acre-feet. As amended, the project would operate between 702.5 and 700.0 feet NGVD29, the total generating capacity would remain 16.0 MW, and the estimated annual energy production would increase from 50,768 to 51,980 MWh.

The current project boundary for the project encompasses approximately 8,271 acres of water and land. Empire District proposes to modify the current project boundary by removing 5,959 acres for a proposed project boundary that encompasses 2,475 acres. Empire District's proposal would increase the existing area of federal land occupied by the project from 5.1 acres to 5.47 acres.

m. A copy of the application can be viewed on the Commission's website at http://www.ferc.gov using the “eLibrary” link. Enter the docket number excluding the last three digits in the docket number field to access the document. For assistance, contact FERC at FERCOnlineSupport@ferc.gov or call toll free, (886) 208-3676 or TTY (202) 502-8659.

You may also register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural schedule: The application will be processed according to the following schedule. Revisions to the schedule will be made as appropriate.

Milestone | Target date
Deadline for Filing Protest, Motion to Intervene, Comments, Recommendations, Preliminary Terms and Conditions, and Preliminary Fishway Prescriptions | January 2024
Deadline for Filing Reply Comments | February 2024

p. Final amendments to the application must be filed with the Commission no later than 30 days from the issuance date of this notice.

q. The license applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please note that the certification request must be sent to the certifying authority and to the Commission concurrently.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: November 9, 2023.
Kimberly D. Bose,
Secretary.

[FR Doc. 2023-25397 Filed 11-16-23; 8:45 am]

BILLING CODE 6717-01-P